NUCLEAR REGULATORY COMMISSION

[NRC-2008-0505]

“Project Plan—Fire-Induced Failure Modes and Effects Testing of Direct Current Driven Control Cables,” Draft for Public Comment

AGENCY: Nuclear Regulatory Commission (NRC).

ACTION: Notice of availability of “Project Plan—Fire-Induced Failure Modes and Effects Testing of Direct Current Driven Control Cables,” and request for public comment.

SUMMARY: The NRC is making the proposed draft test plan, “Project Plan—Fire-Induced Failure Modes and Effects Testing of Direct Current Driven Control Cables,” available for public comment.

DATES: Comments on this document should be submitted by Friday, October 24, 2008. Comments received after that date will be considered to the extent practicable. To ensure efficient and complete comment resolution, comments should include section, page, and line numbers of the document to which the comment applies, if possible.

ADDRESSES: Comments will be made available to the public in their entirety; personal information, such as your name, address, telephone number, e-mail address, etc. will not be removed from your submission. You may submit comments by any one of the following methods:

Federal e-Rulemaking Portal: Go to http://www.regulations.gov and search on the Docket ID for this action: [NRC-2008-0505].

Mail comments to: Michael T. Lesar, Chief, Rulemaking, Directives, and Editing Branch, Office of Administration, Mail Stop: T-6D59, U.S. Nuclear Regulatory Commission, Washington, DC 20555-0001.

Hand-deliver comments to: 11555 Rockville Pike, Rockville, MD 20852, between the hours of 7:45 a.m. and 4:15 p.m., Federal workdays.

You can access publicly available documents related to this notice using the following methods:

Federal e-Rulemaking Portal: Documents related to this notice, including public comments, are accessible at http://www.regulations.gov, by searching on docket ID: [NRC-2008-0505].

NRC's Public Document Room (PDR): The public may examine and have copied for a fee, publicly available documents at the NRC's PDR, Public File Area O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The proposed draft test plan “Project Plan—Fire-Induced Failure Modes and Effects Testing of Direct Current Driven Control Cables,” is available electronically under ADAMS Accession Number ML082520518.

FOR FURTHER INFORMATION CONTACT: Gabriel Taylor, Fire Research Branch, Division of Risk Analysis, Office of Nuclear Regulatory Research, telephone (301) 415-3166, e-mail gabriel.taylor@nrc.gov.

SUPPLEMENTARY INFORMATION: There are several characteristics associated with DC control circuits that are unique as compared to AC control circuits. It is because of these unique characteristics that the extrapolation of the AC circuit test results to DC circuits introduces significant uncertainty. Cable failure modes and effects for DC control circuits may differ significantly from the corresponding behaviors in AC circuits. In order to assess behavioral differences and reduce analysis uncertainty, it is necessary to conduct tests using DC circuits.

Previous fire-induced testing has focused on determining the failure characteristics of alternating current circuits, with only a limited amount of data on direct current (DC) circuits. The purpose of the Draft Test Plan entitled “Draft Project Plan for Fire-Induced Failure Modes and Effects Testing of Direct Current Driven Control Circuit Cables,” is to provide a structured plan for conducting a large number of circuit integrity tests to meet the objective of providing data on spurious actuations related to risk-significant DC circuits typically encountered in nuclear power plants.

The NRC is seeking public comment in order to receive feedback from the widest range of interested parties and to ensure that all information relevant to developing this document is available to the NRC staff. This document is issued for comment only and is not intended for interim use. The NRC will review public comments received on the documents, incorporate suggested changes as necessary, and make the final test plan available to the public through ADAMS.

Dated at Rockville, MD, this 10th day of September 2008.
For the Nuclear Regulatory Commission.
Mark Henry Salley,
Chief, Fire Research Branch, Division of Risk Analysis, Office of Nuclear Regulatory Research.

[FR Doc. E8-21562 Filed 9-15-08; 8:45 am]

BILLING CODE 7590-01-P